TENNESSEE VALLEY AUTHORITY

Meeting of the Regional Resource Stewardship Council

AGENCY: Tennessee Valley Authority (TVA).

ACTION: Notice of meeting.

SUMMARY: The TVA Regional Resource Stewardship Council (RRSC) will hold a virtual meeting on Tuesday, April 20, 2021, to hear updates on multiple subjects.

DATES: The meeting will be held on Tuesday, April 20, 2021 from 9:00 a.m. to 1:30 p.m. EDT.

ADDRESSES: The meeting is virtual and open to the public. Public members must preregister at the following link: http://bit.ly/RRSC--April by 5 p.m. April 19, 2021. Anyone needing special accommodations should let the contact below know at least a week in advance.

FOR FURTHER INFORMATION CONTACT: Cathy Coffey, ccoffey@tva.gov or 865/632-4494.

SUPPLEMENTARY INFORMATION: The RRSC was established to advise TVA on its natural resource and stewardship activities, and the priorities among competing objectives and values. The RERC was established to advise TVA on its energy resource activities, and the priorities among competing objectives and values. Notice of this meeting is given under the Federal Advisory Committee Act (FACA), 5 U.S.C. App.2.

The meeting agenda includes the following:

1. Welcome and Introductions

2. Presentation Regarding TVA's Asset Planning

3. Presentation on Carbon Strategy

4. Update on River Operations

5. Update on Natural Resource projects

6. Public Comment period

A 30-minute public comment session will be held at 12:30 p.m. EDT. If you wish to speak, send email request to ccoffey@tva.gov by the 5 p.m. April 19. Written comments also are invited. Written comments must be emailed to ccoffey@tva.gov no later than April 18, 2021, so they may be shared with the RRSC prior to the meeting.

Dated: March 31, 2021.
The Designated Federal Official of the Tennessee Valley Authority, Melanie Farrell, Vice President of External Strategy & Regulatory Affairs, having reviewed and approved this document, is delegating the authority to sign this document to Cathy Coffey, Senior Program Manager of Stakeholder Relations, for purposes of publication in the Federal Register.
Cathy Coffey,
Senior Program Manager, Stakeholder Relations, Tennessee Valley Authority.

[FR Doc. 2021-07267 Filed 4-8-21; 8:45 am]

BILLING CODE 8120-08-P